DEPARTMENT OF AGRICULTURE

Farm Service Agency

Funding for the Conservation Loan Program; Farm Loan Programs

AGENCY: Farm Service Agency, USDA.

ACTION: Notice.

SUMMARY: This notice announces that the Farm Service Agency (FSA) now has funding for and is accepting guaranteed loan applications for the Conservation Loan (CL) Program. Due to a lack of program funding for direct CLs, direct loan applications are not being accepted at this time.

FOR FURTHER INFORMATION CONTACT: Connie Holman; telephone: (202) 690-0756. Persons with disabilities who require alternative means for communication (Braille, large print, audio tape, etc.) should contact the USDA Target Center at (202) 720-2600 (voice and TDD).

SUPPLEMENTARY INFORMATION: On May 13, 2011, FSA published a notice in the Federal Register (76 FR 27986) announcing that FSA was no longer accepting direct or guaranteed loan applications for the CL Program because of a lack of funding.

On November 18, 2011, FSA received an appropriation to fund guaranteed CLs under the Consolidated and Further Continuing Appropriations Act, 2012 (Pub. L. 112-55). Therefore, FSA has resumed accepting guaranteed loan applications for the CL Program.

FSA is not accepting direct CL applications as no new funding has been appropriated at this time. Conservation projects may still be funded through FSA's direct Farm Ownership and Farm Loan Operating programs for eligible applicants who do not qualify for the Guaranteed CL Program.

Potential guaranteed loan applicants should contact a lender. Potential direct loan applicants should contact their FSA state or county office; office locations can be found at http://www.fsa.usda.gov.

Signed on March 1, 2012.
Bruce Nelson,
Administrator, Farm Service Agency.

[FR Doc. 2012-5529 Filed 3-6-12; 8:45 am]

BILLING CODE 3410-05-P